DEPARTMENT OF LABOR

Employment and Training Administration

[TA-W-81,101]

Cequent Performance Products, Inc. a Subsidiary of Trimas Corporation Including Workers Whose Wages Were Reported Under Tekonsha Towing Systems, Inc., Cequent Electrical Products, Inc., Cequent Towing Products, Inc., and Towing Products, Inc. Including On-Site Leased Workers From Manpower Tekonsha, MI; Amended Certification Regarding Eligibility To Apply for Worker Adjustment Assistance

In accordance with Section 223 of the Trade Act of 1974, as amended (“Act”), 19 U.S.C. 2273, the Department of Labor issued a Certification of Eligibility to Apply for Worker Adjustment Assistance on December 9, 2011, applicable to workers of Cequent Performance Product, a subsidiary of TriMas Corporation, Tekonsha, Michigan. The Department's Notice of determination was published in the Federal Register on December 21, 2011 (76 FR 79223).

At the request of the State Workforce Office, the Department reviewed the certification for workers of the subject firm. The workers were engaged in activities related to the assembly of electronic brake controllers for Ford Motor Company.

New information shows that some workers' wages were reported under Tekonsha Towing Systems, Inc., Cequent Electrical Products, Inc., Cequent Towing Products, Inc., and Towing Products, Inc., as well as Cequent Performance Products, Inc.

Accordingly, the Department is amending this certification to properly reflect this matter.

The intent of the Department's certification is to include all workers of the subject firm who were adversely affected by a shift in production to Reynosa, Mexico of electronic brake controllers for Ford Motor Company.

The amended notice applicable to TA-W-81,101 is hereby issued as follows:

All workers of Cequent Performance Product, a subsidiary of TriMas Corporation, including workers whose wages were reported under Tekonsha Towing Systems, Inc., Cequent Electrical Products, Inc., Cequent Towing Products, Inc., and Towing Products, Inc. and including on-site leased workers from Manpower, Tekonsha, Michigan, who became totally or partially separated from who became totally or partially separated from employment on or after November 27, 2010 through December 9, 2013 and all workers in the group threatened with total or partial separation from employment on date of certification through two years from the date of certification, are eligible to apply for adjustment assistance under Chapter 2 of Title II of the Trade Act of 1974, as amended.

Signed at Washington, DC, this 22nd day of May, 2012.
Del Min Amy Chen,
Certifying Officer, Office of Trade Adjustment Assistance.

[FR Doc. 2012-13591 Filed 6-5-12; 8:45 am]

BILLING CODE 4510-FN-P